FEDERAL COMMUNICATIONS COMMISSION

[Report No. 2472]

Petitions for Reconsideration of Action in Rulemaking Proceeding

March 15, 2001.

Petitions for Reconsideration have been filed in the Commission's rulemaking proceeding listed in this Public Notice and published pursuant to 47 CFR section 1.429(e). The full text of these documents are available for viewing and copying in Room CY-A257, 445 12th Street, S.W., Washington, D.C. or may be purchased from the Commission's copy contractor, ITS, Inc. (202) 857-3800. Oppositions to these petitions must be filed by April 15, 2001. See section 1.4(b)(1) of the Commission's rules (47 CFR 1.4(b)(1)). Replies to an opposition must be filed within 10 days after the time for filing oppositions have expired.

SUBJECT: 2000 Biennial Regulatory Review of Part 68 of the Commission's Rules and Regulations (CC Docket No. 99-216).

Number of Petitions Filed: 5.

Federal Communications Commission.
Magalie Roman Salas,
Secretary.

[FR Doc. 01-6943 Filed 3-20-01; 8:45 am]

BILLING CODE 6712-01-M